DEPARTMENT OF STATE

[Public Notice: 11353]

Notice of Public Meeting in Preparation for International Maritime Organization Meeting

The Department of State will conduct a public meeting by way of teleconference on Thursday, March 11, 2021 starting at 1:00 p.m. eastern standard time. Members of the public may participate up to the capacity of the teleconference phone line, which will handle 500 participants. To access the teleconference line, participants should call (202) 475-4000 and use Participant Code: 138 541 34#.

The primary purpose of the meeting is to prepare for the eighth session of the International Maritime Organization's (IMO) Sub-Committee on Pollution Prevention and Response (PPR 8) to be held remotely on March 22-26, 2021.

The agenda items to be considered include:

—Adoption of the agenda

—Decisions of other IMO bodies

—Safety and pollution hazards of chemicals and preparation of consequential amendments to the IBC Code

—Review of the 2011 Guidelines for the control and management of ships' biofouling to minimize the transfer of invasive aquatic species

—Reduction of the impact on the Arctic of emissions of Black Carbon from international shipping

—Development of measures to reduce risks of use and carriage of heavy fuel oil as fuel by ships in Arctic waters

—Revision of MARPOL Annex IV and associated guidelines to introduce provisions for record-keeping and measures to confirm the lifetime performance of sewage treatment plants

—Follow-up work emanating from the Action Plan to address marine plastic litter from ships

—Biennial agenda and provisional agenda for PPR 9

—Election of Chair and Vice-Chair for 2022

—Any other business

—Report to the Marine Environment Protection Committee

Please note: The IMO Sub-Committee may, on short notice, adjust the PPR 8 agenda to accommodate the constraints associated with the virtual meeting format. Although no changes to the agenda are anticipated, if any are necessary they will be provided to those who RSVP.

Those who plan to participate may contact the meeting coordinator, Ms. Melissa Perera, by email at Melissa.E.Perera@uscg.mil, by phone at (202) 372-1446, or in writing at COMDT (CG-OES-3), ATTN: Ms. Melissa Perera, 2703 Martin Luther King Jr. Ave. SE, Stop 7509, Washington, DC 20593-7509. Additional information regarding this and other IMO public meetings may be found at: https://www.dco.uscg.mil/IMO.

Jeremy M. Greenwood,
Coast Guard Liaison Officer, Office of Ocean and Polar Affairs, Department of State.

[FR Doc. 2021-02693 Filed 2-9-21; 8:45 am]

BILLING CODE 4710-09-P